AGENCY FOR INTERNATIONAL DEVELOPMENT

Senior Executive Service: Membership of Performance Review Board

ACTION: Notice

SUMMARY: This notice provides a list of approved candidates who comprise a standing roster for service on the Agency's 2021 SES Performance Review Board. The Agency will use this roster to select SES Performance Review Board members.

FOR FURTHER INFORMATION CONTACT: Lena Travers at 202-712-5636 or ltravers@usaid.gov.

SUPPLEMENTARY INFORMATION:

The standing roster is as follows:

Allen, Colleen

Bader, Harry

Baker, Shawn

Bernton, Jeremy

Bertram, Robert

Broderick, Deborah

Buckley, Ruth

Chan, Carol

Collins, Gregory

Davis, Thomas

Detherage, Maria Price

Ehmann, Claire

Feinstein, Barbara

Foley, Jason

Girod, Gayle

Gressett, Donald

Jenkins, Robert

Jin, Jun

Johnson, Mark

Knudsen, Ciara

Kuyumjian, Kent

Leavitt, William

Longi, Maria

Lucas, Rachel

Mahanand, Vedjai

Maltz, Gideon

McGill, Brian

Mitchell, Reginald

Nims, Matthew

Ohlweiler, John

Panjabi, Rajesh

Pascocello, Susan

Pryor, Jeanne

Pustejovsky, Brandon

Schmitt, Tricia

Schulz, Laura

Singh, Sukhvinder

Sokolowski, Alexander

Steele, Gloria

Taylor, Margaret

Voorhees, John

Walther, Mark

Karen Baquedano,
Director, Center for Performance Excellence.

[FR Doc. 2021-08280 Filed 4-21-21; 8:45 am]

BILLING CODE P